DEPARTMENT OF DEFENSE

Office of the Secretary

32 CFR Part 199

[Docket ID: DOD-2017-HA-0060]

Defense Health Agency (DHA); Subgroup to the DoD Regulatory Reform Task Force, Review of the Existing TRICARE Regulation

AGENCY: Office of the Assistance Secretary of Defense for Health Affairs, Department of Defense.

ACTION: Request for comment.

SUMMARY: In accordance with Executive Order 13777, “Enforcing the Regulatory Reform Agenda,” the DHA Subgroup to the DoD Regulatory Reform Task Force is seeking input on the sections of the existing TRICARE regulation that may be appropriate for repeal, replacement, or modification. See the SUPPLEMENTARY INFORMATION section in this document for additional guidance.

DATES: Interested parties should submit written comments to the address shown in this document on or before January 22, 2018, to be considered.

ADDRESSES: Submit comments identified by “DOD-2017-HA-0060” using any of the following methods:

• Regulations.gov: http://www.regulations.gov. Submit comments via the Federal eRulemaking portal by entering “DOD-2017-HA-0060” under the heading “Enter keyword or ID” and selecting “Search.” Select the link “Submit a Comment” that corresponds with “DOD-2017-HA-0060.” Follow the instructions provided at the “Submit a Comment” screen.

• Mail: Department of Defense, Office of the Deputy Chief Management Officer, Directorate of Oversight and Compliance, 4800 Mark Center Drive, Mailbox #24, Suite 08D09B, Alexandria, VA 22350-1700.

Comments received generally will be posted without change to http://www.regulations.gov, including any personal information provided. To confirm receipt of your comment(s), please check http://www.regulations.gov, approximately three days after submission to verify posting (allow 30 days for posting of comments submitted by mail).

FOR FURTHER INFORMATION CONTACT: Mr. Matthew Minnier, telephone 703-275-6304.

SUPPLEMENTARY INFORMATION: On February 24, 2017, the President signed Executive Order (E.O.) 13777, “Enforcing the Regulatory Reform Agenda,” which established a Federal policy “to alleviate unnecessary regulatory burdens” on the American people.

Section 3(a) of the E.O. directs Federal agencies to establish a Regulatory Reform Task Force (Task Force). One of the duties of the Task Force is to evaluate existing regulations and “make recommendations to the agency head regarding their repeal, replacement, or modification.” The E.O. further asks that each Task Force “attempt to identify regulations that:

(i) Eliminate jobs, or inhibit job creation; (ii) are outdated, unnecessary, or ineffective; (iii) impose costs that exceed benefits; (iv) create a serious inconsistency or otherwise interfere with regulatory reform initiatives and policies; (v) are inconsistent with the requirements of section 515 of the Treasury and General Government Appropriation Act, 2001 (44 U.S.C. 3516 note), or the guidance issued pursuant to that provision in particular those regulations that rely in whole or in part on data, information, or methods that are not publicly available or that are insufficiently transparent to meet the standard of reproducibility; or (vi) derive from or implement Executive Orders or other Presidential directives that have been subsequently rescinded or substantially modified.”

Section 3(e) of the E.O. 13777 calls on the Task Force to “seek input and other assistance, as permitted by law, from entities significantly affected by Federal regulations, including State, local, and tribal governments, small businesses, consumers, non-governmental organizations, trade associations” on regulations that meet some or all of the criteria as described in this notice. Through this request for comments, DHA is soliciting such input from the public to inform evaluation of the sections of the TRICARE regulation at 32 CFR part 199 by the Task Force's DHA Subgroup. Although DHA will not respond to each individual comment, DHA may follow-up with respondents to clarify comments. DHA values public feedback and will consider all input that it receives.

Dated: October 17, 2017.
Aaron Siegel,
Alternate OSD Federal Register Liaison Officer, Department of Defense.

[FR Doc. 2017-22877 Filed 10-20-17; 8:45 am]

BILLING CODE 5001-06-P